DEPARTMENT OF COMMERCE

International Trade Administration

[A-201-837, A-570-954, C-570-955]

Certain Magnesia Carbon Bricks From Mexico and the People's Republic of China: Continuation of Antidumping Duty Orders and Countervailing Duty Order

AGENCY: Enforcement and Compliance, International Trade Administration, Department of Commerce.

SUMMARY: As a result of the determinations by the Department of Commerce (“the Department”) and the International Trade Commission (“ITC”) that revocation of the antidumping duty (“AD”) orders on certain magnesia carbon bricks (“MCBs”) from Mexico and the People's Republic of China (“PRC”) and the countervailing duty (“CVD”) order on MCBs from the PRC would likely lead to a continuation or recurrence of dumping and countervailable subsidies and material injury to an industry in the United States, the Department is publishing a notice of continuation of the antidumping duty orders and the countervailing duty order.

DATES: Effective Date: February 12, 2016.

FOR FURTHER INFORMATION CONTACT: Kenneth Hawkins, AD/CVD Operations, Enforcement and Compliance, International Trade Administration, U.S. Department of Commerce, 14th Street and Constitution Avenue NW., Washington, DC 20230; telephone: (202) 482-6491.

SUPPLEMENTARY INFORMATION:

Background

On August 3, 2015 the Department published a notice of initiation of the first sunset review of the AD orders on MCBs from Mexico and the PRC, and the CVD order on MCBs from the PRC, pursuant to section 751(c) of the Tariff Act of 1930, as amended (“the Act”).¹ As a result of its review, the Department determined that revocation of the AD orders would likely lead to a continuation or recurrence of dumping and that revocation of the CVD order would likely lead to continuation or recurrence of countervailable subsidies. The Department, therefore, notified the ITC of the magnitude of the margins and net countervailable subsidy rates likely to prevail should the antidumping orders and the countervailing duty order be revoked.² On February 2, 2016, the ITC published notice of its determination, pursuant to section 751(c) of the Act, that revocation of the AD and CVD orders on MCBs from Mexico and the PRC would likely lead to a continuation or recurrence of material injury to an industry in the United States within a reasonably foreseeable time.³

¹ See Initiation of Five-Year (“Sunset”) Review, 80 FR 45945 (August 3, 2015) (“Initiation”).

² See Certain Magnesia Carbon Bricks from Mexico and the People's Republic of China: Final Results of Expedited Sunset Review of the Antidumping Duty Orders, 80 FR 76447 (December 9, 2015) and accompanying Issues and Decision Memorandum; see also Certain Magnesia Carbon Bricks from the People's Republic of China: Final Results of Expedited First Sunset Review of the Countervailing Duty Order, 80 FR 75971 (December 7, 2015).

³ See Certain Magnesia Carbon Bricks from the People's Republic of China: Determination, 81 FR 5484 (February 2, 2016); see also Certain Magnesia Carbon Bricks from the People's Republic of China: Investigation No. 701-TA-468 and 731-TA-1166-1167, USITC Publication 4589 (January, 2016).

Scope of the Orders

Imports covered by the orders consist of certain chemically bonded (resin or pitch), MCBs with a magnesia component of at least 70 percent magnesia (“MgO”) by weight, regardless of the source of raw materials for the MgO, with carbon levels ranging from trace amounts to 30 percent by weight, regardless of enhancements, (for example, MCBs can be enhanced with coating, grinding, tar impregnation or coking, high temperature heat treatments, anti-slip treatments or metal casing) and regardless of whether or not anti-oxidants are present (for example, antioxidants can be added to the mix from trace amounts to 15 percent by weight as various metals, metal alloys, and metal carbides).

Certain MCBs that are the subject of this investigation are currently classifiable under subheadings 6902.10.1000, 6902.10.5000, 6815.91.0000, 6815.99.2000, and 6815.99.4000 of the Harmonized Tariff Schedule of the United States (“HTSUS”). While HTSUS subheadings are provided for convenience and customs purposes, the written description is dispositive.

Continuation of the Orders

As a result of the determinations by the Department and the ITC that revocation of the AD and CVD orders would likely lead to a continuation or recurrence of dumping and countervailable subsidies and material injury to an industry in the United States, pursuant to section 751(d)(2) of the Act and 19 CFR 351.218(a), the Department hereby orders the continuation of the AD orders on MCBs from Mexico and the PRC and the CVD order on MCBs from the PRC. U.S. Customs and Border Protection will continue to collect AD and CVD duty cash deposits at the rates in effect at the time of entry for all imports of subject merchandise.

The effective date of the continuation of the orders will be the date of publication in the Federal Register of this notice of continuation. Pursuant to section 751(c)(2) of the Act, the Department intends to initiate the next five-year review of the orders not later than 30 days prior to the fifth anniversary of the effective date of continuation.

This five-year (“sunset”) review and this notice are in accordance with section 751(c) of the Act and published pursuant to section 777(i)(1) of the Act and 19 CFR 351.218(f)(4)

Dated: February 5, 2016.
Paul Piquado,
Assistant Secretary for Enforcement and Compliance.

[FR Doc. 2016-02994 Filed 2-11-16; 8:45 am]

BILLING CODE 3510-DS-P